DEPARTMENT OF TRANSPORTATION

Federal Aviation Administration

14 CFR Part 71

[Docket No. FAA-2015-3991; Airspace Docket No. 15-ANM-13]

Amendment of Class D and Class E Airspace; Eugene, OR, and Corvallis, OR

AGENCY: Federal Aviation Administration (FAA), DOT.

ACTION: Final rule.

SUMMARY: This action amends Class E airspace designated as an extension, and Class E airspace extending upward from 700 feet above the surface at Mahlon Sweet Field Airport, Eugene, OR, to accommodate airspace redesign for the safety and management of Instrument Flight Rules (IFR) operations at the airport. Corvallis Municipal Airport is removed from the Mahlon Sweet Field Airport regulatory text by creating a stand-alone airspace designation for the airport. Additionally, this action updates the airport reference points for these airports in Class D and E airspace, as well as removes the Notice to Airmen (NOTAM) requirement noted in Class E surface area airspace.

DATES: Effective 0901 UTC, January 5, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the U.S. Department of Transportation, Docket Operations, 1200 New Jersey Avenue SE., West Bldg. Ground Floor Rm W12-140, Washington, DC 20590; Telephone: 1-800-647-5527, or 202-366-9826. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA, 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Mahlon Sweet Field Airport, Eugene, OR, and Corvallis Municipal Airport, Corvallis, OR.

History

On August 15, 2016, the FAA published in the Federal Register (81 FR 53962) Docket No. FAA-2015-3991, a notice of proposed rulemaking (NPRM) to modify Class E airspace designated as an extension to a Class D or E surface airspace area, and Class E airspace extending upward from 700 feet above the surface, at Mahlon Sweet Field Airport, Eugene OR, and to establish Class E airspace extending upward from 700 feet above the surface at Corvallis Municipal Airport, Corvallis, OR. Interested parties were invited to participate in this rulemaking effort by submitting written comments on the proposal to the FAA. On August 29, 2016, the FAA received a request from Mr. Charles West for a pictorial overlay of the airspace proposal. On September 6, 2016, the FAA provided a diagram of the proposed changes via email to Mr. West and also to Senator Jeff Merkley, Mitch T. Swecker of the Oregon Department of Aviation, and to Mary Rosenblum of the Oregon Pilots Association. No other comments were received.

Class D and Class E airspace designations are published in paragraph 5000, 6002, 6004, and 6005, respectively, of FAA Order 7400.11A, dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14 Code of Federal Regulations (14 CFR) Part 71 by modifying Class E airspace designated as an extension to a Class D or Class E surface area, and Class E airspace extending upward from 700 feet above the surface at Mahlon Sweet Field Airport, Eugene, OR. The Class E surface extension to the north is slightly enlarged to contain aircraft using the VOR-A approach, and the extension to the south is enlarged to contain aircraft using the RNP (RNAV) Z instrument approaches as they descend below 1,000 feet above the surface. Class E airspace extending upward from 700 feet above the surface is reduced to the northeast and west of the airport to only that area necessary to contain IFR arrival aircraft descending below 1,500 feet above the surface, and IFR departure aircraft, until reaching 1,200 feet above the surface. The Class E airspace area extending upward from 1,200 feet above the surface is removed, as this airspace area is provided by the Bend, OR, Class E En Route airspace area.

Also, this action creates stand-alone Class E airspace extending upward from 700 feet above the surface for Corvallis Municipal Airport, Corvallis, OR, thereby removing reference to Corvallis Municipal Airport from the Mahlon Sweet Field Airport airspace designation. The overall Class E airspace area near Corvallis Municipal Airport is slightly reduced north, and slightly enlarged west of the airport. The geographic coordinates of these airports are updated for all Class D and Class E airspace areas.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000: Class D Airspace.

* * * * *

ANM OR D Eugene, OR [Modified]

Mahlon Sweet Field Airport, OR

(Lat. 44°07′29″ N., long. 123°12′43″ W.)

That airspace extending upward from the surface to and including 2,900 feet MSL within a 4.6-mile radius of Mahlon Sweet Field Airport. This Class D airspace area is effective during the specific dates and times established in advance by a Notice to Airmen. The effective date and time will thereafter be continuously published in the Chart Supplement.

Paragraph 6002: Class E Airspace Designated as Surface Areas.

* * * * *

ANM OR E2 Eugene, OR [Modified]

Mahlon Sweet Field Airport, OR

(Lat. 44°07′29″ N., long. 123°12′43″ W.)

That airspace extending upward from the surface within a 4.6-mile radius of Mahlon Sweet Field Airport.

Paragraph 6004: Class E Airspace Areas Designated as an Extension to a Class D or Class E Surface Area.

* * * * *

ANM OR E4 Eugene, OR [Modified]

Mahlon Sweet Field Airport, OR

(Lat. 44°07′29″ N., long. 123°12′43″ W.)

That airspace extending upward from the surface within 3 miles west and 2 miles east of the Mahlon Sweet Field Airport 008° bearing, extending from the 4.6-mile radius of the airport to 6.8 miles north of the airport, and within the area bounded by the airport 142° bearing clockwise to the airport 213° bearing, extending from the 4.6-mile radius to 13.5 miles south of the airport, and within the area bounded by the airport 213° bearing clockwise to the airport 226° bearing, extending from the 4.6-mile radius to 14 miles southwest of the airport.

Paragraph 6005: Class E Airspace Areas Extending Upward From 700 Feet or More Above the Surface of the Earth.

* * * * *

ANM OR E5 Corvallis, OR [New]

Corvallis Municipal Airport, OR

(Lat. 44°29′50″ N., long. 123°17′22″ W.)

That airspace extending upward from 700 feet above the surface within a 6-mile radius of Corvallis Municipal Airport, and 2.4 miles each side of the airport 007° bearing, extending from the 6-mile radius to 12.4 miles north of the airport, and 2.6 miles each side of the airport 104° bearing extending from the 6-mile radius to 7.1 miles east of the airport, and 2 miles each side of the airport 188° bearing extending from the 6-mile radius to 7.1 miles south of the airport.

* * * * *

ANM OR E5 Eugene, OR [Modified]

Mahlon Sweet Field Airport, OR

(Lat. 44°07′29″ N., long. 123°12′43″ W.)

That airspace extending upward from 700 feet above the surface within a 6-mile radius of Mahlon Sweet Field Airport, and that airspace within the area bounded by the airport 098° bearing clockwise to the airport 138° bearing, extending from the 6-mile radius to 18.3 miles southeast of the airport, and within the area bounded by the airport 138° bearing clockwise to the 170° bearing, extending from the 6-mile radius to 13.5 miles southeast of the airport, and within the area bounded by the airport 170° bearing clockwise to the 234° bearing, extending from the 6-mile radius to 18.3 miles southwest of the airport, and that airspace within 3.6 miles east and 8.5 miles west of the airport 008° bearing, extending from the 6-mile radius to 16 miles north of the airport.

Issued in Seattle, Washington, on October 24, 2016.
Tracey Johnson,
Manager, Operations Support Group, Western Service Center.

[FR Doc. 2016-26439 Filed 11-3-16; 8:45 am]

BILLING CODE 4910-13-P